DEPARTMENT OF AGRICULTURE

Submission for OMB Review; Comment Request

May 15, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology.

Comments regarding this information collection received by June 20, 2013 will be considered. Written comments should be addressed to: Desk Officer for Agriculture, Office of Information and Regulatory Affairs, Office of Management and Budget (OMB), New Executive Office Building, 725—17th Street NW., Washington, DC 20503. Commentors are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Youth Conservation Corps Application & Medical History Forms.

OMB Control Number: 0596-0084.

Summary of Collection: The Youth Conservation Corps Act of 1970, as amended (Pub. L. 93-408), and 16 U.S.C. 1701-1706, Chapter 37, Youth Conservation Corps and Public Lands Corps, authorizes the USDA Forest Service (FS) and Department of the Interior agencies Fish and Wildlife Service and National Park Service to collect information on applications and medical history forms to evaluate the eligibility of youths 15 to 18 years old for employment with the Youth Conservation Corps (YCC). FS and the Department of Interior cooperate to provide seasonal employment for eligible youth and in doing so prepare the young adults of this country for the ultimate responsibility of maintaining and managing these resources for the American people.

Need and Use of the Information: Youth, ages 15-18, who seek training and employment with participating agencies through the YCC must complete an application form (FS-1800-18) and once selected for employment must complete a medical history form (FS-1800-3). The applicant's parents or guardian must sign both forms. The application form is used in the random selection process and the medical history form provides information needed to determine certification of suitability, any special medical or medication needs, and a file record for the Federal Government and participants. If these forms were not used, the Federal government's ability to oversee the Youth Conservation Corps program would be greatly impaired. The organizational and liability issues that would result from inability to collect this information needed to manage the program would be virtually insurmountable.

Description of Respondents: Individuals.

Number of Respondents: 12,010.

Frequency of Responses: Annually.

Total Burden Hours: 3,704.

Charlene Parker,
Departmental Information Collection Clearance Officer.

[FR Doc. 2013-12045 Filed 5-20-13; 8:45 am]

BILLING CODE 3410-11-P